ENVIRONMENTAL PROTECTION AGENCY

[FRL-10022-09-OMS]

Cross-Media Electronic Reporting: Authorized Program Revision Approval, State of Alabama

AGENCY: Environmental Protection Agency (EPA).

ACTION: Notice.

SUMMARY: This notice announces the Environmental Protection Agency's (EPA) approval of the State of Alabama's request to revise/modify certain of its EPA-authorized programs to allow electronic reporting.

DATES: EPA approves the authorized program revisions/modifications as of June 1, 2021.

FOR FURTHER INFORMATION CONTACT: Shirley M. Miller, CROMERR Program Manager, U.S. Environmental Protection Agency, Office of Information Management, Mail Stop 2824T, 1200 Pennsylvania Avenue NW, Washington, DC 20460, (202) 566-2908, miller.shirley@epa.gov.

SUPPLEMENTARY INFORMATION: On October 13, 2005, the final Cross-Media Electronic Reporting Rule (CROMERR) was published in the Federal Register (70 FR 59848) and codified as Part 3 of Title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On August 19, 2020, the Alabama Department of Environmental Management (ADEM) submitted an application titled Alabama Web Portal for revisions/modifications to its EPA-approved programs under title 40 CFR to allow new electronic reporting. EPA reviewed ADEM's request to revise/modify its EPA-authorized programs and, based on this review, EPA determined that the application met the standards for approval of authorized program revisions/modifications set out in 40 CFR part 3, subpart D. In accordance with 40 CFR 3.1000(d), this notice of EPA's decision to approve Alabama's request to revise/modify its following EPA-authorized programs to allow electronic reporting under 40 CFR parts 60, 63, 70, 123, 142, 145, 403, 239, 271, 281, and Emergency Planning and Community Right-to-Know Act (SARA Title III/CRTK) is being published in the Federal Register:

Part 60: Standards of Performance for New Stationary Sources (NSPS/CAR/Clean Air Act Title III) Reporting under CFR 60 & 65

Part 63: National Emission Standards for Hazardous Air Pollutants for Source Categories (NESHAP MACT/Clean Air Act Title III) Reporting under CFR 61, 63 & 65

Part 70: State Operating Permit Programs (Clean Air Act Title V) Reporting under CFR 64 & 70

Part 123: EPA-Administered Permit Programs: The National Pollutant Discharge Elimination System (NPDES) Reporting under CFR 122 & 125

Part 142: National Primary Drinking Water Regulations Implementation (NPDWR) Reporting under CFR 141

Part 145: State Underground Injection Control Programs (UIC) Reporting under CRF 144 & 146

Part 403: General Pretreatment Regulations for Existing and New Sources of Pollution Reporting under CFR 403-471

Part 239: Requirements for State Permit Program Determination of Adequacy (RCRA Subtitle C) Reporting under CFR 240-259

Part 271: Requirements for Authorization of State Hazardous Waste Programs (RCRA Subtitle C) Reporting under CFR 260-270, 272-279

Part 281: Technical Standards and Corrective Action Requirements for Owners and Operators of Underground Storage Tanks (UST) Reporting under CFR 280

Emergency Planning and Community Right-to-Know Act (SARA Title III/CRTK) Reporting under EPCRA Sections 302-304, 311-313

ADEM was notified of EPA's determination to approve its application with respect to the authorized programs listed above.

Dated: May 4, 2021.
Jennifer Campbell,
Director, Office of Information Management.

[FR Doc. 2021-11414 Filed 5-28-21; 8:45 am]

BILLING CODE 6560-50-P